ENVIRONMENTAL PROTECTION AGENCY

[ER-FRL-6253-4]

Environmental Impact Statements; Notice of Availability

Responsible Agency: Office of Federal Activities, General Information (202) 564-7167 or www.epa.gov/oeca/ofa.

Weekly Receipt of Environmental Impact Statements

Filed April 10, 2000 Through April 14, 2000

Pursuant to 40 CFR 1506.9

EIS No. 200108, Draft EIS, AFS, ID, Lakeface-Lamb

Fuel Reduction Project, To Reduce the Risk of Lethal Fires within a Wildland/Urban Interface, Implementation, Idaho Panhandle National Forests, Priest Lake Ranger District, Bonner County, ID, Due: June 05, 2000, Contact: David Asleson (208)

443-2512.

EIS No. 200109, Draft Supplement, AFS, UT, Rhyohite Fuel Ecosystem Rehabilitation Project to the South Spruce Ecosystem Rehabilitation Project, Implementation, Dixie National Forest, Cedar City Ranger District, Iron County, UT, Due: June 05, 2000, Contact: Philip G. Eisenhauer (435) 865-3200.

EIS No. 200110, Final EIS, BLM, WY, South Baggs Natural Gas Development Area, Proposal to Drill and Develop 50 Natural Gas Wells, Application for Permit to Drill and COE Section 404 Permit, Carbon County, WY, Due: May 22, 2000, Contact: Larry Jackson (307) 328-4231.

EIS No. 200111, Draft EIS, SFW, NV, Stillwater National Wildlife Refuge Complex Comprehensive Conservation Plan and Boundary Revision, Implementation, Churchill and Washoe Counties, NV, Due: June 12, 2000, Contact: Don Delong (916) 414-6500.

EIS No. 200112, Revised Final EIS, COE, FL, Lake Okeechobee Regulation Schedule Study, To Maintain or Improve Existing Water Storage, Revised Information, St. Lucie and Caloosahatchee River Estuaries, FL, Due: May 22, 2000, Contact: Elmar Kurzbach (904) 232-2325.

EIS No. 200113, Final EIS, BOP, SC, South Carolina—Federal Correctional Institution, Construct and Operate, Possible Sites: Andrew, Bennettsville, Oliver and Salters, SC, Due: May 22, 2000, Contact: David J. Dorworth (202) 514-6470.

EIS No. 200114, Draft EIS, AFS, PA, East Side Project, Improvements to Timber Management, Transportation System Development and Wildlife Habitat, From Existing Condition (EC) to Desired Future Condition (DFC), Allegheny National Forest, Bradford and Marienville District, Elk, Forest, McKean and Warren Counties, PA, Due: June 05, 2000, Contact: Carl Leland (814) 776-6172.

EIS No. 200115, Draft EIS, AFS, ID, Iron Honey Resource Area Project, Aquatic, Vegetative and Wildlife Habitat Improvement Activities, Implementation, Coeur d'Alene River Ranger District, Idaho Panhandle National Forests, Kootenai and Shoshone Counties, ID, Due: June 05, 2000, Contact: Kerry Arneson (208) 769-3000.

EIS No. 200116, Final EIS, FHW, HI, Puainako Street Extension and Widening, Traffic Circulation Improvements, Funding, South Hilo, Hawaii County, HI, Due: May 22, 2000, Contact: Abraham Wong (808) 541-2700.

EIS No. 200117, Final EIS, SFW, AK, Wolf Lake Area Natural Gas Pipeline Project, Construction, Approval Right-of-Way Grant and COE Section 404 Permit, Kenai National Wildlife Refuge, AK, Due: May 22, 2000, Contact: Brian Anderson (907) 786-3379.

EIS No. 200118, Final EIS, AFS, OR, WA, Pacific Northwest Region Douglas-fir Tussock Moth (orgvia pseudotsugata) Project, To Partially Control an Anticipated Outbreak of Douglas-fir tussock moth, To be Implemented in Nine National Forests in WA and OH, Due: May 22, 2000, Contact: Bill Funk (503) 808-2984.

EIS No. 200119, Draft EIS, AFS, WA, Upper Charley Subwatershed Ecosystem Restoration Projects, Implementation, Pomeroy Ranger District, Umatilla National Forest, Garfield County, WA, Due: June 12, 2000, Contact: Monte Fujishin (509) 843-1891.

EIS No. 200120, Draft EIS, AFS, ID, Brownlee Vegetation and Access Management Project, Implementation, Weiser Ranger District, Payette National Forest, Washington County, ID, Due: June 21, 2000, Contact: John Baglien (208) 549-4200.

EIS No. 200121, Draft EIS, COE, DE, Fenwick Island Feasibility Study, Storm Damage Reduction, In the Community of Fenwick Island, Sussex County, DE, Due: June 05, 2000, Contact: Robert L. Callegari (215) 656-6555.

Amended Notices

EIS No. 200003, Draft EIS, COE, WA, Lower Snake River Juvenile Salmon Migration Feasibility Study, Implementation, To Increase the Survival of Juvenile Anadromous Fish, Snake River, Walla Walla, WA, Due: May 01, 2000, Contact: Lonnie Mettler (509) 527-7268. Published FR on 1-14-2000: CEQ Comment Date has been extended from 03/31/2000 to 05/01/2000.

Dated: April 18, 2000.
B. Katherine Biggs,
Associate Director, NEPA Compliance Division, Office of Federal Activities.

[FR Doc. 00-10030 Filed 4-20-00; 8:45 am]

BILLING CODE 6560-50-P